ENVIRONMENTAL PROTECTION AGENCY

[FRL-7522-8]

Agency Information Collection Activities: Proposed Collection; Comment Request; National Oil and Hazardous Substances Pollution Contingency Plan, Subpart J

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Nation Oil and Hazardous Substances Pollution Contingency Plan—Subpart J, EPA ICR 1664.05, OMB Control Number RIN 2050-AE87, expiration date 01/31/2004. Before submitting the ICR to OMB for review and approval, EPA is soliciting comments on specific aspects of the proposed information collection as described below.

DATES: Comments must be submitted on or before September 5, 2003.

ADDRESSES: Interested persons may obtain a copy of the ICR without charge by contacting the EPA Docket Center at 1301 Constitution Ave., NW., EPA West, Suite B-102, Washington, DC 20460. The docket number for this ICR is OPA 2003-0001. The docket is contained in the EPA Docket Center and is available for inspection by appointment only, between the hours of 8:30 a.m. and 4:30 p.m., Monday through Friday, excluding legal holidays. You may make an appointment to view the docket by calling 202-566-0276. You may copy a maximum of 100 pages from a regulatory docket at no cost. If the number of pages exceeds 100, however, we will charge you $0.15 for each page after 100. The docket will mail copies to you if you are outside the Washington, DC metropolitan area.

FOR FURTHER INFORMATION CONTACT: William “Nick” Nichols, (703) 603-9918, Facsimile Number (703) 603-9116, e-mail: nichols.nick@epa.gov.

SUPPLEMENTARY INFORMATION: Affected entities: Entities potentially affected by this action are those which manufacture, sell, distribute and/or use oil spill dispersants, other chemicals, and other spill mitigating devices and substances that may be used in carrying out the NCP, as listed in 40 CFR 300.900 on land or waters of the United States.

Title: National Oil and Hazardous Substances Pollution Contingency Plan, Subpart J (NCP) (OMB Control No. RIN 2050-AE87; EPA ICR No.1664.05), expiring 01/31/2004.

Abstract: Subpart J of the NCP allows and regulates the use of chemical and biological oil spill cleanup and control agents. The information collected is supplied by the manufacturer of such products. This information and data are then analyzed by EPA to determine the appropriateness, and under which category, the product may be listed on the NCP Product Schedule. This product data is critical for EPA to obtain in order to assure that effectiveness and toxicity data for these products is available to the oil spill community in order to use them legally and effectively. Responses to the collection of information are mandatory if EPA determines that the products specifications require its listing under subpart J (40 CFR 300.5 Definitions). However, manufacturers volunteer to have their product analyzed. The authority to review and use a product is 40 CFR 300.910. Confidentiality of data, ingredients, and other proprietary information for the products is maintained by EPA. Manufacturers may use any certified lab in the U.S. to test their product's effectiveness and toxicity. The cost of such tests range from $1,200 to $15,000 per test. The process to have a product listed takes at least 30 days, but no longer than 60 days, depending on the accuracy and completeness of the product information package provided to EPA by the manufacturer. Due to the technical and graphical data required to be listed, electronic submissions are not accepted.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Estimated projected cost and hour burden for listing a product are between 13.4 and 40 hours at a cost ranging from under $3,500 to $16,021 depending on the product and what the lab charges the manufacturer to test the product. EPA estimates that an average of 14 product applications are submitted each year at a cost of $95,558 ($6,825 average) to manufacturers and $17,708 to EPA. Additional data requirements include changes to manufacturer's address, name of product, distributers, product specifications, and any other changes to the product. Changes to the product's composition may require further testing and data submission to EPA. Otherwise the cost to supply this information to EPA is a one-time cost. EPA does not charge any fees to maintain records for a product nor are there any costs to update the product's file other than those mentioned above. There are no required capital, start up cost or fees required by EPA to have a product listed.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 27, 2003.
Stephen Heare,
Acting Director, Office of Emergency Prevention, Preparedness, and Response.

[FR Doc. 03-17103 Filed 7-3-03; 8:45 am]

BILLING CODE 6560-50-P